FEDERAL MARITIME COMMISSION

[Docket No. 12-04]

Possible Revocation of Ocean Transportation Intermediary License No. 021899—Trans World Logistics Corporation; Order To Show Cause

Trans World Logistics Corporation (Trans World Logistics) is an Indiana corporation, incorporated in October 2006. Records maintained by the Commission's Bureau of Certification and Licensing (BCL) indicate that Trans World Logistics maintains its principal offices at 702 Penny Lane, Plainfield, Indiana. BCL records identify the principals of the firm as Malene Sorensen, Vice President and Satinder Kaur, President, Treasurer and CEO. Trans World Logistics has been licensed to operate as an ocean transportation intermediary (OTI) pursuant to FMC license No. 021899 since December 2008.

Trans World Logistics was licensed on the basis of the qualifications of Ms. Sorensen, an officer of the company and its approved Qualifying Individual (QI). Based on information obtained in the course of a routine OTI compliance audit conducted by the Commission's Bureau of Enforcement (BOE), it appears that the QI resigned her position as an officer on November 3, 2010. According to BCL's records, the licensee has not notified the Commission of the QI's resignation or sought approval of a replacement QI. The Commission's OTI regulations require that when, as here, a corporation has been licensed on the basis of the qualifications of an officer of the company and that individual no longer serves in a full-time and active capacity, the licensee must report such change to the Commission within 30 days and within that time period seek Commission approval of any other active officer who may qualify the licensee. 46 CFR 515.18(c). It appears that Trans World Logistics has violated and continues to be in violation of this requirement.

In addition, as part of its OTI compliance audit of Trans World Logistics, BOE sent repeated requests to the company between June and November, 2011, seeking current information about its OTI business. Such requests were sent to the addresses contained in BCL's records as well as additional addresses for the firm's principals located through research conducted by staff. Despite BOE's efforts to communicate with the licensee in order to obtain information about its OTI business, Trans World Logistics has repeatedly failed to reply to such requests. The Commission regulations require a licensee to promptly respond to lawful inquiries from any authorized representative of the Commission. 46 CFR 515.31(g). It appears that Trans World Logistics also continues to be in violation of this requirement.

Section 19(c) of the Shipping Act, 46 U.S.C. 40903 (a), provides that the Commission:

* * * after notice and opportunity for hearing, shall suspend or revoke an ocean transportation intermediary's license if the Commission finds that the ocean transportation intermediary—(1) is not qualified to provide intermediary services; or (2) that it willfully failed to comply with a provision of this part or with an order or regulation of the Commission.

As pertinent, the Commission's regulations at 46 CFR 515.16(a) provide that an OTI license be revoked or suspended for any of the following reasons:

(1) Violation of any provision of the Act, or any other statute or Commission order or regulation related to carrying on the business of an ocean transportation intermediary;

(2) Failure to respond to any lawful order or inquiry by the Commission;

(3) Making a materially false or misleading statement to the Commission in connection with an application for a license or an amendment to an existing license;

(4) Where the Commission determines that the licensee is not qualified to render intermediary services;

(5) Failure to honor the licensee's financial obligations to the Commission.

It appears that Trans World Logistics has violated Commissions regulations by failing to notify the Commission of the resignation of its QI, failing to seek approval of a replacement, and repeatedly failing to respond to lawful inquiries by the Commission with respect to its OTI business. Accordingly, it appears that revocation of its license is warranted under the Shipping Act.

Now therefore, it is ordered That pursuant to Sections 11, 14 and 19 of the Shipping Act of 1984, 46 U.S.C. 41302, 41304, 40903(a)(2), Trans World Logistics Corporation is directed to show cause, within 30 days of publication of this Order in the Federal Register, why the Commission should not revoke its license for failure to report the resignation of its QI and seek approval of a replacement, as required by 46 CFR 515.18; and for failure to reply to lawful inquiries by the Commission with respect to its business as required by 46 CFR 515.31(g).

It is further ordered That this proceeding be limited to the submission of affidavits of fact and memoranda of law;

It is further ordered That any person having an interest and desiring to intervene in this proceeding shall file a petition for leave to intervene in accordance with Rule 72 of the Commission's Rules of Practice and Procedure, 46 CFR 502.72. Such petition shall be accompanied by the petitioner's memorandum of law and affidavit of fact, if any, and shall be filed no later than the date fixed below;

It is further ordered That Trans World Logistics Corporation be named as Respondent in this proceeding. Affidavits of fact and memoranda of law shall be filed by Respondent and any intervenors in support of Respondent no later than May 11, 2012;

It is further ordered That the Commission's Bureau of Enforcement be made a party to this proceeding;

It is further ordered That reply affidavits and memoranda of law shall be filed by BOE and intervenors in support no later than May 29, 2012;

It is further ordered That:

(a) Should any party believe that an evidentiary hearing is required, that party must submit a request for such hearing together with a statement setting forth in detail the facts to be proved, the relevance of those facts to the issues in this proceeding, a description of the evidence which would be adduced, and why such evidence cannot be submitted by affidavit;

(b) Any request for evidentiary hearing shall be filed no later than May 29, 2012;

It is further ordered That notice of this Order to Show Cause be published in the Federal Register, and that a copy thereof be served upon Respondent at its last known address;

It is further ordered That all documents submitted by any party of record in this proceeding shall be filed in accordance with Rule 2 of the Commission's Rules of Practice and Procedure, 46 CFR 502.2, as well as being mailed directly to all parties of record;

Finally, it is ordered That pursuant to the terms of Rule 61 of the Commission's Rules of Practice and Procedure, 46 CFR 502.61, the final decision of the Commission in this proceeding shall be issued by August 9, 2012.

By the Commission.
Karen V. Gregory,
Secretary.

[FR Doc. 2012-9099 Filed 4-13-12; 8:45 am]

BILLING CODE 6730-01-P